ENVIRONMENTAL PROTECTION AGENCY

[ER-FRL-6638-3]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated April 12, 2002 (67 FR 17992).

Draft EISs

ERP No. D-COE-K35043-CA Rating EC2, Port of Long Beach Pier J South Terminal Development, Port Terminals Dredging and Landfilling, Modernization and Expansion, US Army COE Section 10 and 404 Permits Issuance, City of Long Beach, CA.

Summary: EPA expressed environmental concerns and requested additional information on impacts to waters of the U.S. and air quality, as well as potential environmental justice impacts on communities surrounding the Port of Long Beach.

ERP No. D-NPS-E65061-FL Rating LO, Biscayne National Park General Management Plan Amendment, Evaluation of the Effects of Several Alternatives for the Long-Term Management Plan, Stillsville, Biscayne National Park, Homestead, Miami-Dade County, FL.

Summary: EPA's review has not identified any potential environmental impacts requiring substantive changes in the proposal, therefore EPA has no objection to the action as proposed.

ERP No. D-SFW-L64048-WA Rating EC2, Nisqually National Wildlife Refuge (NWR) Comprehensive Conservation Plan, Adoption and Implementation, Puget Sound, Nisqually River Delta, Thurston and Pierce Counties, WA.

Summary: EPA expressed environmental concerns related to the Purpose and Need Statement, discussion of potential cooperative shareholders, ecological connectivity, wetlands, potential hazardous waste sites, and agricultural facilities decommissioning.

ERP No. D-SFW-L99008-WA Rating EC2, Daybreak Mine Expansion and Habitat Enhancement Project, Habitat Conservation Plan and Issuance of a Multiple Species Permit for Incidental Take, Implementation, Clark County, WA.

Summary: EPA expressed environmental concerns over the need for a more explicit demonstration that the action alternatives would fulfill the Endangered Species Act goal of recovering endangered species populations. EPA also expressed concerns over the need for additional information about impacts to fish habitat, as well as the limited scope of the analysis of indirect and cumulative effects.

Final EISs

ERP No. F-AFS-L65392-ID, Middle-Black Analysis Project, Vegetation Management, Watershed Restoration and Noxious Weed Activities Aimed at Ecosystem Restoration, Clearwater National Forest, North Fork Ranger District, Clearwater County, ID.

Summary: No formal comment letter was sent to the preparing agency.

ERP No. F-COE-H35005-KS, KS-10, Highway (commonly known as South Lawrence Trafficway) Relocation, Issuance or Denial of U.S. Army COE Section 404 Permit Request, Lawrence City, Douglas County, KS.

Summary: The FEIS provided clarifying information to EPA's previous objections that were based upon the potential for roadway contaminants to degrade the Baker Wetlands. EPA recommended that any Clean Water Act 404 permit be issued with special conditions consistent with the U.S. Army Corps of Engineers recent Wetlands Mitigation Regulatory Guidance Letter (RGL No. 02-2).

ERP No. F-NRC-E06021-NC, Generic EIS—McGuire Nuclear Power Station Units 1 and 2, Supplement 8 to NUREG-1437, Located on the Shore of Lake Norman, Mecklenburg County, NC.

Summary: EPA previous issues have been resolved, therefore EPA has no objection to the action as proposed.

Dated: March 4, 2003.
Joseph C. Montgomery,
Director, NEPA Compliance Division, Office of Federal Activities.

[FR Doc. 03-5483 Filed 3-6-03; 8:45 am]

BILLING CODE 6560-50-P